NATIONAL SCIENCE FOUNDATION

Advisory Committee for Integrative Activities: Notice of Meeting

In accordance with the Federal Advisory Committee Act (Pub. L. 92-463, as amended), the National Science Foundation (NSF) announces the following meeting:

NAME AND COMMITTEE CODE: Advisory Committee for Integrative Activities (#1373).

DATES AND TIMES:

December 13, 2017; 9:00 a.m.-5:00.p.m.

December 14, 2017; 8:00 a.m.-5:00 p.m.

PLACE: National Science Foundation, 2415 Eisenhower Avenue, Alexandria, VA 22314.

To help facilitate your entry into the building, please contact Dr. Bernice Anderson via email at banderso@nsf.gov or by phone: 703.292.8040 on or prior to December 12, 2017.

TYPE OF MEETING: Part-Open.

CONTACT PERSON: Dr. Bernice Anderson, Senior Advisor, Office of Integrative Activities (OIA), Room W17124, National Science Foundation, 2415 Eisenhower Avenue, Alexandria, VA 22314. Contact Information: 703-292-8040/banderso@nsf.gov.

PURPOSE OF MEETING: To provide advice and recommendations concerning the use of and the need for the Science and Technology Policy Institute.

Agenda

Wednesday, December 13, 2017

• 9:30 a.m.-Noon (Open): Welcome, Charge to the Panel, Overview and History of the Science and Technology Policy Institute (STPI), and STPI Research Presentation

• 1:30 p.m.-4:30 p.m. (Open): Presentation and Briefings by the Office of Science and Technology Representatives; Discussions about the Need for and Use of STPI

Thursday, December 14, 2017

• 9:00 a.m.-11:30 a.m.: (Open)—Presentations/Briefings by NSF and other Government Clients

• 11:30 a.m.-5:00 p.m.: (Closed) Review of the Contract and Report Writing

REASON FOR CLOSING: The contract being reviewed includes information of a proprietary or confidential nature, including technical and personal information that must be considered in the evaluation and the development of recommendation(s). These matters are exempt under 5 U.S.C. 552b(c), (4), (6) and (9)(B) of the Government in the Sunshine Act.

Dated: November 14, 2017.
Crystal Robinson,
Committee Management Officer.

[FR Doc. 2017-24993 Filed 11-16-17; 8:45 am]

BILLING CODE 7555-01-P